DEPARTMENT OF COMMERCE

International Trade Administration

[A-570-912]

Certain New Pneumatic Off-the-Road Tires From the People's Republic of China: Antidumping Duty Administrative Review; 2010-2011

AGENCY: Import Administration, International Trade Administration, Department of Commerce.

SUMMARY: The Department of Commerce (“the Department”) is conducting an administrative review of the antidumping duty order on certain new pneumatic off-the-road tires (“OTR tires”) from the People's Republic of China (“PRC”). The period of review (“POR”) is September 1, 2010, through August 31, 2011. The review covers one exporter of subject merchandise, Hangzhou Zhongce Rubber Co., Ltd. (“Zhongce”). We have preliminarily found that Zhongce made sales of subject merchandise at less than normal value.

DATES: Effective Date: October 9, 2012.

FOR FURTHER INFORMATION CONTACT: Andrew Medley, AD/CVD Operations, Office 8, Import Administration, International Trade Administration, Department of Commerce, 1401 Constitution Avenue NW., Washington, DC 20230; telephone: (202) 482-4987.

SUPPLEMENTARY INFORMATION:

Scope of the Order

The merchandise covered by this order includes new pneumatic tires designed for off-the-road and off-highway use, subject to certain exceptions. The subject merchandise is currently classifiable under Harmonized Tariff Schedule of the United States (“HTSUS”) subheadings: 4011.20.10.25, 4011.20.10.35, 4011.20.50.30, 4011.20.50.50, 4011.61.00.00, 4011.62.00.00, 4011.63.00.00, 4011.69.00.00, 4011.92.00.00, 4011.93.40.00, 4011.93.80.00, 4011.94.40.00, and 4011.94.80.00. The HTSUS subheadings are provided for convenience and customs purposes only; the written product description of the scope of the order is dispositive.¹

¹ See Certain New Pneumatic Off-the-Road Tires From the People's Republic of China: Notice of Amended Final Affirmative Determination of Sales at Less Than Fair Value and Antidumping Duty Order, 73 FR 51624 (September 4, 2008).

Partial Rescission of Review

Pursuant to 19 CFR 351.213(d)(1), the Secretary will rescind an administrative review, in whole or in part, if a party that requested the review withdraws the request within 90 days of the date of publication of the initiation notice.

For all but five of the 85 companies for which the Department initiated an administrative review, Bridgestone Americas, Inc. and Bridgestone Americas Tire Operations, LLC (“Bridgestone”), a domestic interested party, was the only party that requested the review. On January 6, 2012, Bridgestone timely withdrew all of its review requests. On January 11, 2012, GTC ² timely withdrew its three requests for self-review. On January 11, 2012, Tianjin United Tire & Rubber International Co., Ltd. (“TUTRIC”) timely withdrew its request for self-review.

² Guizhou Tyre Co., Ltd., Guizhou Advance Rubber Co., Ltd., and Guizhou Tyre Import and Export Corporation (collectively, “GTC”).

For those companies named in the Initiation Notice ³ for which all review requests have been withdrawn and who previously received separate rate status in prior segments of this case, we are rescinding this administrative review, in accordance with 19 CFR 351.213(d)(I). These companies are listed in Appendix II.

³ Initiation of Antidumping and Countervailing Duty Administrative Reviews and Request for Revocation in Part, 76 FR 67133 (October 31, 2011) (“Initiation Notice”)

Bridgestone's withdrawal of its timely request for an administrative review, as described above, included requests to conduct administrative reviews of multiple companies that do not have separate rates. While the requests for review of these companies were timely withdrawn, those companies remain a part of the PRC-wide entity. Although the PRC-wide entity is not under review for these preliminary results, the possibility exists that the PRC-wide entity could be under review for the final results of this administrative review. Therefore, we are not rescinding this review with respect to these companies at this time, but we intend to rescind this review with respect to these companies in the final results if the PRC-wide entity is not reviewed. These companies are listed in Appendix III.

Methodology

The Department has conducted this review in accordance with section 751(a)(1)(A) of the Tariff Act of 1930, as amended (“the Act”). Export prices have been calculated in accordance with section 772 of the Act. Because the PRC is a nonmarket economy within the meaning of section 771(18) of the Act, normal value has been calculated in accordance with section 773(c) of the Act. For a full description of the methodology underlying our conclusions, please see “Decision Memorandum for Preliminary Results of 2010-2011 Antidumping Duty Administrative Review: Certain New Pneumatic Off-the-Road Tires from the People's Republic of China” from Christian Marsh, Deputy Assistant Secretary for Antidumping and Countervailing Duty Operations to Paul Piquado, Assistant Secretary for Import Administration, dated October 1, 2012 (“Preliminary Decision Memorandum”) and hereby adopted by this notice. The Preliminary Decision Memorandum is a public document and is on file electronically via Import Administration's Antidumping and Countervailing Duty Centralized Electronic Service System (“IA ACCESS”). IA ACCESS is available to registered users at http://iaaccess.trade.gov and in the Central Records Unit, room 7046 of the main Department of Commerce building. In addition, a complete version of the Preliminary Decision Memorandum can be accessed directly on the internet at http://www.trade.gov/ia/. The signed Preliminary Decision Memorandum and the electronic versions of the Preliminary Decision Memorandum are identical in content.

Preliminary Results of Review

The Department preliminarily determines that the following weighted-average dumping margin exists:

Exporter | Weighted- average dumping margin
Hangzhou Zhongce Rubber Co., Ltd. | 132.98

Disclosure and Public Comment

The Department will disclose calculations performed for these preliminary results to the parties within five days of the date of publication of this notice in accordance with 19 CFR 351.224(b). Interested parties may submit written comments no later than 30 days after the date of publication of these preliminary results of review.⁴ Rebuttals to written comments may be filed no later than five days after the written comments are filed.⁵

⁴ See 19 CFR 351.309(c).

⁵ See 19 CFR 351.309(d).

Any interested party may request a hearing within 30 days of publication of this notice.⁶ Hearing requests should contain the following information: (1) The party's name, address, and telephone number; (2) the number of participants; and (3) a list of the issues to be discussed. Oral presentations will be limited to issues raised in the briefs. If a request for a hearing is made, parties will be notified of the time and date for the hearing to be held at the U.S. Department of Commerce, 1401 Constitution Avenue NW., Washington, DC 20230.⁷

⁶ See 19 CFR 351.310(c).

⁷ See 19 CFR 351.310(d).

The Department will issue the final results of this administrative review, which will include the results of its analysis of issues raised in any such comments, within 120 days of publication of these preliminary results, pursuant to section 751(a)(3)(A) of the Act.

Deadline for Submission of Publicly Available Surrogate Value Information

In accordance with 19 CFR 351.301(c)(3)(ii), the deadline for submission of publicly available information to value factors of production under 19 CFR 351.408(c) is 20 days after the date of publication of the preliminary results. In accordance with 19 CFR 351.301(c)(1), if an interested party submits factual information less than ten days before, on, or after (if the Department has extended the deadline), the applicable deadline for submission of such factual information, an interested party may submit factual information to rebut, clarify, or correct the factual information no later than ten days after such factual information is served on the interested party. However, the Department generally will not accept in the rebuttal submission additional or alternative surrogate value information not previously on the record, if the deadline for submission of surrogate value information has passed.⁸ Furthermore, the Department generally will not accept business proprietary information in either the surrogate value submissions or the rebuttals thereto, as the regulation regarding the submission of surrogate values allows only for the submission of publicly available information.⁹

⁸ See, e.g., Glycine from the People's Republic of China: Final Results of Antidumping Duty Administrative Review and Final Rescission, in Part, 72 FR 58809 (October 17, 2007), and accompanying Issues and Decision Memorandum at Comment 2.

⁹ See 19 CFR 351.301(c)(3).

Assessment Rates

Upon issuance of the final results, the Department will determine, and U.S. Customs and Border Protection (“CBP”) shall assess, antidumping duties on all appropriate entries covered by this review.¹⁰ For assessment purposes, we calculated exporter/importer- (or customer) -specific assessment rates for merchandise subject to this review. Where appropriate, we calculated an ad valorem rate for each importer (or customer) by dividing the total dumping margins for reviewed sales to that party by the total entered values associated with those transactions. For duty-assessment rates calculated on this basis, we will direct CBP to assess the resulting ad valorem rate against the entered customs values for the subject merchandise.

¹⁰ See 19 CFR 351.212(b)(1).

Where appropriate, we calculated a per-unit rate for each importer (or customer) by dividing the total dumping margins for reviewed sales to that party by the total sales quantity associated with those transactions. For duty-assessment rates calculated on this basis, we will direct CBP to assess the resulting per-unit rate against the entered quantity of the subject merchandise. Where an importer- (or customer) -specific assessment rate is de minimis (i.e., less than 0.50 percent), the Department will instruct CBP to assess that importer (or customer's) entries of subject merchandise without regard to antidumping duties. The Department intends to issue appropriate assessment instructions directly to CBP 15 days after publication of the final results of this review.

Cash Deposit Requirements

The following cash deposit requirements will be effective upon publication of the final results of this administrative review for all shipments of the subject merchandise entered, or withdrawn from warehouse, for consumption on or after the publication date, as provided for by section 751(a)(2)(C) of the Act: (1) For Zhongce, the cash deposit rate will be the company-specific rate established in the final results of this review, except if the rate is zero or de minimis no cash deposit will be required; (2) for previously investigated or reviewed PRC and non-PRC exporters not listed above that have separate rates, the cash deposit rate will continue to be the exporter-specific or exporter/producer-specific rate published for the most recent period; (3) for all PRC exporters of subject merchandise that have not been found to be entitled to a separate rate, the cash deposit rate will be the PRC-wide rate of 210.48 percent; ¹¹ and (4) for all non-PRC exporters of subject merchandise that have not received their own rate, the cash deposit rate will be the rate applicable to the PRC exporters that supplied that non-PRC exporter. These deposit requirements, when imposed, shall remain in effect until further notice.

¹¹ See Implementation of Determinations Under Section 129 of the Uruguay Round Agreements Act: Certain New Pneumatic Off-the-Road Tires; Circular Welded Carbon Quality Steel Pipe; Laminated Woven Sacks; and Light-Walled Rectangular Pipe and Tube From the People's Republic of China, 77 FR 52683, 52686 (August 30, 2012).

Notification to Importers

This notice also serves as a preliminary reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

We are issuing and publishing these results in accordance with sections 751(a)(1) and 777(i)(1) of the Act and 19 CFR 351.213.

Dated: October 1, 2012.
Paul Piquado,
Assistant Secretary for Import Administration.

Appendix I

List of Topics Discussed in the Preliminary Decision Memorandum

1. Background

2. Scope of the Order

3. Non-Market Economy Country

4. Separate Rates

5. Surrogate Country and Surrogate Value Data

6. Economic Comparability

7. Significant Producers of Identical or Comparable Merchandise

8. Data Availability

9. Date of Sale

10. Fair Value Comparisons

11. U.S. Price

12. Normal Value

13. Factor Valuations

14. Currency Conversion

Appendix II

Separate rate companies for which we are rescinding this administrative review:

1. Exporter Aeolus Tyre Co., Ltd., for manufacturer Aeolus Tyre Co., Ltd.

2. Exporter Double Coin Holdings Ltd., for manufacturers Double Coin Holdings Ltd., Double Coin Group Rugao Tyre Co., Ltd, or Double Coin Group Shanghai Donghai Tyre Co., Ltd.

3. Exporter Double Happiness Tyre Industries Corp. Ltd., for manufacturer Double Happiness Tyre Industries Corp. Ltd.

4. Exporter Guizhou Tyre Co., Ltd., for manufacturers Guizhou Advance Rubber or Guizhou Tyre Co., Ltd.

5. Exporter Guizhou Tyre Import and Export Corporation, for manufacturers Guizhou Advance Rubber or Guizhou Tyre Co., Ltd.

6. Exporter Hebei Starbright Tire Co., Ltd.

7. Exporter Jiangsu Feichi Co., Ltd., for manufacturer Jiangsu Feichi Co., Ltd.

8. Exporter Kenda Global Holding Co. Ltd., for manufacturer Kenda Rubber (China) Co., Ltd.

9. Exporter Kenda Rubber (China) Co., Ltd., for manufacturer Kenda Rubber (China) Co., Ltd.

10. Exporter KS Holding Limited/KS Resources Limited

11. Exporter Laizhou Xiongying Rubber Industry Co., Ltd.

12. Exporter Oriental Tyre Technology Limited, for manufacturers Midland Off The Road Tire Co., Ltd., Midland Specialty Tire Co., Ltd., or Xuzhou Hanbang Tyres Co., Ltd.

13. Exporter Qingdao Aonuo Tyre Co. Ltd., for manufacturer Qingdao Aonuo Tyre Co. Ltd.

14. Exporter Qingdao Etyre International Trade Co. Ltd., for manufacturers Shandong Xingda Tyre Co. Ltd., Shandong Xingyuan International Trade Co. Ltd., or Shandong Xingyuan Rubber Co. Ltd.

15. Exporter Qingdao Free Trade Zone Full-World International Trading Co., Ltd., for manufacturers Qingdao Eastern Industrial Group Co., Ltd., Qingdao Qihang Tyre Co., Ltd., Qingdao Shuanghe Tyre Co., Ltd., Qingdao Yellowseatyre Factory, or Shandong Zhentai Tyre Co., Ltd.

16. Exporter Qingdao Hengda Tire Co. Ltd., for manufacturer Qingdao Hengda Tire Co. Ltd.

17. Exporter Qingdao Milestone Tyres Co., Ltd., for manufacturers Qingdao Shuanghe Tyre Co., Ltd., Shandong Zhentai Tyre Co., Ltd., Shifeng Double-Star Tire Co., Ltd., or Weifang Longtai Tyre Co., Ltd.

18. Exporter Qingdao Qihang Tyre Co. Ltd., for manufacturer Qingdao Qihang Tyre Co. Ltd.

19. Exporter Qingdao Qizhou Rubber Co., Ltd., for manufacturer Qizhou Rubber Co., Ltd.

20. Exporter Qingdao Sinorient International Ltd., for manufacturers Qingdao Hengda Tyres Co., Ltd., Shifeng Double-Star Tire Co., Ltd., or Tengzhou Broncho Tyre Co., Ltd

21. Exporter Qingdao Taifa Group Co., Ltd.

22. Exporter Shandong Huitong Tyres Co. Ltd., for manufacturer Shandong Huitong Tyres Co. Ltd.

23. Exporter Shandong Jinyu Tyre Co., Ltd., for manufacturer Shandong Jinyu Tyre Co., Ltd.

24. Exporter Shandong Taishan Tyre Co., Ltd., for manufacturer Shandong Taishan Tyre Co., Ltd.

25. Exporter Shandong Wanda Boto Tyre Co., Ltd., for manufacturer Shandong Wanda Boto Tyre Co., Ltd.

26. Exporter Shandong Xingyuan International Trading Co., Ltd., for manufacturers Shangdong Xingda Tyre Co., Ltd. or Xingyuan Tyre Group Co., Ltd.

27. Exporter Techking Tires Limited, for manufacturers Shandong Xingda Tyre Co. Ltd., Shandong Xingyuan International Trade Co. Ltd., or Shandong Xingyuan Rubber Co. Ltd

28. Exporter Tianjin United Tire & Rubber International Co., Ltd.

29. Exporter Triangle Tyre Co. Ltd., for manufacturer Triangle Tyre Co. Ltd.

30. Exporter Weihai Zhongwei Rubber Co., Ltd.

31. Exporter Wendeng Sanfeng Tyre Co. Ltd., for manufacturer Wendeng Sanfeng Tyre Co. Ltd.

32. Exporter Xuzhou Xugong Tyre Co. Ltd., for manufacturer Xuzhou Xugong Tyre Co. Ltd.

33. Exporter Zhaoyuan Leo Rubber Co. Ltd., for manufacturer Zhaoyuan Leo Rubber Co. Ltd.

Appendix III

Companies that are part of the PRC-wide entity for which Bridgestone has withdrawn its review request:

1. Exporter Aeolus Tyre Co., Ltd., for any manufacturer other than Aeolus Tyre Co., Ltd.

2. Exporter Beijing Shouchuang Tyre Co. Ltd.

3. Exporter Cheng Shin Rubber (Xiamen) Ind. Ltd.

4. Exporter China Enterprises Ltd.

5. Exporter China Haohua Chemical Group Corp.

6. Exporter China National Tyre & Rubber Guilin Co., Ltd.

7. Exporter Cooper Chengshan (Shandong) Tire Co. Ltd.

8. Exporter Double Coin Group Rugao Tyre Co., Ltd.

9. Exporter Double Coin Group Shanghai Donghai Tyre Co. Ltd.

10. Exporter Double Coin Holdings Ltd., for any manufacturers other than Double Coin Holdings Ltd., Double Coin Group Rugao Tyre Co., Ltd, or Double Coin Group Shanghai Donghai Tyre Co., Ltd.

11. Exporter Double Happiness Tyre Industries Corp. Ltd., for any manufacturer other than Double Happiness Tyre Industries Corp. Ltd.

12. Exporter Eternity International L Freight Forwarder

13. Exporter GITI Tire (China) Investment Co., Ltd.

14. Exporter GITI Tire Pte. Ltd.

15. Exporter Guangzhou Pearl River Rubber Tyre Ltd.

16. Exporter Guilun Tire Co.

17. Exporter Guizhou Advance Rubber Co., Ltd.

18. Exporter Guizhou Tyre Co., Ltd., for any manufacturers other than Guizhou Advance Rubber or Guizhou Tyre Co., Ltd.

19. Exporter Guizhou Tyre Import and Export Corporation, for any manufacturers other than Guizhou Advance Rubber or Guizhou Tyre Co., Ltd.

20. Exporter Henan Tyre Ltd.

21. Exporter Hwa Fong Rubber Ltd (Hong Kong)

22. Exporter Innova Rubber Co., Ltd.

23. Exporter Jiangsu Feichi Co., Ltd., for any manufacturers other than Jiangsu Feichi Co., Ltd.

24. Exporter Kenda Global Holding Co. Ltd., for any manufacturer other than Kenda Rubber (China) Co., Ltd.

25. Exporter Kenda Rubber (China) Co., Ltd., for any manufacturer other than Kenda Rubber (China) Co., Ltd.

26. Exporter L-Guard International Enterprise

27. Exporter Longkou Xinglong Tire Co. Ltd.

28. Exporter Mai Shandong Radial Tyre Co., Ltd.

29. Exporter Maxxis International (HK) Co. Ltd.

30. Exporter Midland Speciality Tire Co., Ltd.

31. Exporter Oriental Tyre Technology Limited, for any manufacturers other than Midland Off The Road Tire Co., Ltd., Midland Specialty Tire Co., Ltd., or Xuzhou Hanbang Tyres Co., Ltd.

32. Exporter Qingdao Aonuo Tyre Co. Ltd., for any manufacturer other than Qingdao Aonuo Tyre Co. Ltd.

33. Exporter Qingdao Doublestar Tire Industrial Co., Ltd.

34. Exporter Qingdao Eastern Industrial Group Co. Ltd.

35. Exporter Qingdao Etyre International Trade Co. Ltd., for any manufacturers other than Shandong Xingda Tyre Co. Ltd., Shandong Xingyuan International Trade Co. Ltd., or Shandong Xingyuan Rubber Co. Ltd.

36. Exporter Qingdao Free Trade Zone Full-World International Trading Co., Ltd., for any manufacturers other than Qingdao Eastern Industrial Group Co., Ltd., Qingdao Qihang Tyre Co., Ltd., Qingdao Shuanghe Tyre Co., Ltd., Qingdao Yellowseatyre Factory, or Shandong Zhentai Tyre Co., Ltd.

37. Exporter Qingdao Hengda Tire Co. Ltd., for any manufacturer other than Qingdao Hengda Tire Co. Ltd.

38. Exporter Qingdao Honour Tyre Co. Ltd.

39. Exporter Qingdao Milestone Tyres Co., Ltd., for any manufacturers other than Qingdao Shuanghe Tyre Co., Ltd., Shandong Zhentai Tyre Co., Ltd., Shifeng Double-Star Tire Co., Ltd., or Weifang Longtai Tyre Co., Ltd.

40. Exporter Qingdao Qihang Tyre Co. Ltd., for any manufacturer other than Qingdao Qihang Tyre Co. Ltd.

41. Exporter Qingdao Qizhou Rubber Co., Ltd., for any manufacturer other than Qizhou Rubber Co., Ltd.

42. Exporter Qingdao Seanoble International Trade

43. Exporter Qingdao Shuanghe Tyre Co. Ltd.

44. Exporter Qingdao Sinorient International Ltd., for any manufacturer other than Qingdao Hengda Tyres Co., Ltd., Shifeng Double-Star Tire Co., Ltd., or Tengzhou Broncho Tyre Co., Ltd

45. Exporter Qingdao Tengjiang Tyre Co. Ltd.

46. Exporter Qingdao Yellowsea Tyre Factory

47. Exporter Sailun Co., Ltd.

48. Exporter Shandong Chengshan Group

49. Exporter Shandong Goldkylin Rubber Group Co.

50. Exporter Shandong Huatai Rubber Co. Ltd.

51. Exporter Shandong Huitong Tyres Co. Ltd., for any manufacturer other than Shandong Huitong Tyres Co. Ltd.

52. Exporter Shandong Jinyu Tyre Co., Ltd., for any manufacturer other than Shandong Jinyu Tyre Co., Ltd.

53. Exporter Shandong Linglong Tyre Co. Ltd.

54. Exporter Shandong LuHe Group General Co.

55. Exporter Shandong Sangong Rubber Co. Ltd.

56. Exporter Shandong Taishan Tyre Co., Ltd., for any manufacturer other than Shandong Taishan Tyre Co., Ltd.

57. Exporter Shandong Wanda Boto Tyre Co., Ltd., for any manufacturer other than Shandong Wanda Boto Tyre Co., Ltd.

58. Exporter Shandong Xingda Tyre Co., Ltd.

59. Exporter Shandong Xingyuan International Trading Co., Ltd., for any manufacturers other than Shangdong Xingda Tyre Co., Ltd. or Xingyuan Tyre Group Co., Ltd.

60. Exporter Shandong Xingyuan Rubber Co. Ltd.

61. Exporter Shandong Zhentai Tyre Co., Ltd.

62. Exporter Shanghai Huyai Group Company

63. Exporter Shangong Zhongce Tyre Co. Ltd.

64. Exporter Shifeng Double-Star Tire Co. Ltd.

65. Exporter Sichuan Haida Tyre Group Co. Ltd.

66. Exporter Techking Tires Limited, for any manufacturers other than Shandong Xingda Tyre Co. Ltd., Shandong Xingyuan International Trade Co. Ltd., or Shandong Xingyuan Rubber Co. Ltd

67. Exporter Tengzhou Broncho Tyre Co. Ltd.

68. Exporter Tianjin Wanda Tyre Group

69. Exporter Triangle Tyre Co. Ltd., for any manufacturer other than Triangle Tyre Co. Ltd.

70. Exporter U.S. Cooper Tire & Rubber Co.

71. Exporter Weifang Longtai Tyre Co., Ltd.

72. Exporter Wendeng Sanfeng Tyre Co. Ltd., for any manufacturer other than Wendeng Sanfeng Tyre Co. Ltd.

73. Exporter World Tyres Limited

74. Exporter Xiamen Rubber Factory

75. Exporter Xingyuan Tyre Co., Ltd

76. Exporter Xuzhou Hanbang Tyres Co., Ltd.

77. Exporter Xuzhou Xugong Tyre Co. Ltd., for any manufacturer other than Xuzhou Xugong Tyre Co. Ltd.

78. Exporter Zhaoyuan Leo Rubber Co. Ltd., for any manufacturer other than Zhaoyuan Leo Rubber Co. Ltd.

[FR Doc. 2012-24832 Filed 10-5-12; 8:45 am]

BILLING CODE 3510-DS-P